DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Topographic and Bathymetric Data Inventory Survey.

OMB Control Number: None.

Form Number(s): NA.

Type of Request: Regular submission (new information collection).

Number of Respondents: 283.

Average Hours per Response: Preliminary telephone interview, 5 minutes; data form, 15 minutes.

Burden Hours: 59.

Needs and Uses: In compliance with Executive Order 12862, Setting Customer Service Standards, this survey will be used by the NOAA Coastal Services Center to obtain information from our customers on the location of topographic and bathymetric data that are publicly available. The information about the data will be used to construct a Topographic and Bathymetric Data Inventory, an index of the best-available elevation data sets by region. Twenty-one pieces of information about each dataset will be collected to give an accurate picture of data quality and give users of the Topographic and Bathymetric Data Inventory access to each dataset. The end goal of this collection is to provide a comprehensive, publicly available, topographic and bathymetric data web resource.

Affected Public: State, local and tribal government.

Frequency: Once.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: October 28, 2010.
Gwellnar Banks,
Management Analyst, Office of the Chief Information Officer.

[FR Doc. 2010-27622 Filed 11-1-10; 8:45 am]

BILLING CODE 3510-JE-P